ENVIRONMENTAL PROTECTION AGENCY

[EPA-HQ-OPPT-2025-0067; FRL-12475-09-OCSPP]

Certain New Chemicals; Receipt and Status Information for August-September 2025

AGENCY: Environmental Protection Agency (EPA).

ACTION: Notice of receipt and request for comment.

SUMMARY: This document announces the Agency's receipt of new chemical submissions under the Toxic Substances Control Act (TSCA), including information about the receipt of a Premanufacture Notice (PMN), Significant New Use Notice (SNUN), Microbial Commercial Activity Notice (MCAN), and an amendment to a previously submitted notice; test information; a biotechnology exemption application; an application for a test marketing exemption (TME); and a notice of commencement of manufacture (defined by statute to include import) (NOC) for a new chemical substance. This document also provides a periodic status report on the new chemical substances that are currently under EPA review or have recently concluded review. EPA is hereby providing notice of receipt of this information, as required by TSCA, and an opportunity to comment. This document covers the period from 9/1/2025 to 9/30/2025.

DATES: Comments must be received on or before December 31, 2025.

ADDRESSES: Submit your comments, identified by docket identification (ID) number EPA-HQ-OPPT-2025-0067 and the specific case number provided in this document for the chemical substance related to your comment, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Jim Rahai, Project Management and Operations Division (7407M), Office of Pollution Prevention and Toxics, Environmental Protection Agency, 1200 Pennsylvania Ave. NW, Washington, DC 20460-0001; telephone number: (202) 564-8593; email address: rahai.jim@epa.gov.

For general information: The TSCA Assistance Information Service Hotline, Goodwill of the Finger Lakes, 422 South Clinton Ave., Rochester, NY 14620; telephone number: (800) 471-7125 or (202) 554-1404; email address: TSCA-Hotline@epa.gov.

SUPPLEMENTARY INFORMATION:

I. Executive Summary

A. Does this action apply to me?

This action provides information that is directed to the public in general.

B. What is the Agency's authority for taking this action?

EPA is publishing this document in the Federal Register as required by sections 5 of the Toxic Substances Control Act (TSCA), 15 U.S.C. 2601 et seq., and corresponding EPA regulations.

Under TSCA, a chemical substance may be either an “existing” chemical substance or a “new” chemical substance, see https://www.epa.gov/chemicals-under-tsca. Any chemical substance that is not on EPA's TSCA Inventory of Chemical Substances (TSCA Inventory) is classified as a “new chemical substance,” while a chemical substance that is listed on the TSCA Inventory is classified as an “existing chemical substance.” See TSCA section 3(2) and (11). For more information about the TSCA Inventory, see https://www.epa.gov/inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the new chemical substance or significant new use, and take appropriate action as described in TSCA section 5(a)(3).

TSCA section 5(h)(1) authorizes EPA to allow persons, upon application and under appropriate restrictions, to manufacture a new chemical substance, or manufacture or process a chemical substance subject to a significant new use rule (SNUR) issued under TSCA section 5(a)(2), for “test marketing” purposes, upon a showing that the manufacture, processing, distribution in commerce, use, and disposal of the chemical substances will not present an unreasonable risk of injury to health or the environment. This is referred to as a test marketing exemption, or TME.

Premanufacture notification procedures for review of certain new microbial products of biotechnology are established in 40 CFR part 725. These pertain to MCANs and biotechnology exemptions, including TSCA experimental release applications (TERAs), TMEs for microorganisms, and Tier I and Tier II exemptions.

C. What action is the Agency taking?

This document provides notice of receipt and status reports for the covered period and certain submissions under TSCA section 5 and provides an opportunity to comment on this information. The Agency is providing information about the receipt of PMNs, SNUNs, MCANs, and amendments to a previously submitted notice; test information; biotechnology exemption applications under 40 CFR part 725; TME applications; NOCs for new chemical substances; and a periodic status report on chemical substances that are currently under EPA review or have recently concluded review.

D. What should I consider as I prepare my comments for EPA?

1. Submitting CBI. Do not submit CBI to EPA through https://www.regulations.gov or email. If you wish to include CBI in your comment, please follow the instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR parts 2 and 703.

2. Tips for preparing your comments. When preparing and submitting your comments, see the commenting tips at https://www.epa.gov/dockets/commenting-epa-dockets.

II. Background

A. What information is being provided in this document?

The tables in this document provide the following information on the TSCA section 5 submissions received by EPA during this period and determined to be complete consistent with 40 CFR 720.70(a).

• Case number. The EPA number assigned to the TSCA section 5 submissions. Please note that a case number may be listed more than once in the table when the submission involves a subsequent amendment.

• Chemical substance. Name of the chemical substance, or generic name if the specific name is claimed as CBI.

• Manufacturer. Name of the submitting manufacturer, to the extent that such information is not subject to a CBI claim. The term “manufacturer” is defined by statute to include importer.

• Use(s). Potential uses identified by the manufacturer.

• Received. Date the submission was received by EPA.

• Commencement. Date of commencement provided by the submitter in the NOC.

• Test information. For test information received, the type of test information submitted to EPA based on the attachment type and subtype data selected by the submitter.

B. What do the acronyms mean that are used in the tables?

As used in each of the tables, the following explanations apply:

• (S) indicates that the information in the table is the specific information provided by the submitter.

• (G) indicates that the information in the table is generic information because the specific information provided by the submitter was claimed as CBI.

C. How can I access other information about TSCA section 5 submissions?

EPA provides information on its website about cases reviewed under TSCA section 5, including the PMNs, SNUNs, MCANs, and exemption applications received; the date of receipt; the final EPA determination on the submission; and the effective date of EPA's determination. See https://www.epa.gov/new-chemicals-under-toxic-substances-control-act-tsca/status-pre-manufacture-notices. In addition, information EPA receives about chemical substances under TSCA, including non-CBI new chemical submissions, can be accessed in ChemView at https://chemview.epa.gov/.

III. Receipt Reports

Table 1 provides non-CBI information for the PMNs, SNUNs and MCANs received by EPA that have passed an initial screening and determined to be complete consistent with 40 CFR 720.70(a) during this period.

Table 1—PMN/SNUN/MCANs Received and Under Review
Case No. | Received date | Manufacturer | Use | Chemical substance
J-25-0011A | 09/16/2025 | CBI | (G) Fermentation to produce base chemical | (G) Escherichia coli (gene edited) containing 8 integrated genes.
J-25-0015 | 09/21/2025 | Danisco US, Inc | (G) Production of a chemical substance | (G) Genetically modified microorganism.
P-19-0140 | 08/29/2025 | CBI | (G) Intermediate | (G) Perfluorodioxaalkyl vinyl ether.
P-20-0034 | 08/29/2025 | CBI | (G) Intermediate | (G) Perfluorinated vinyl haloalkane sulfonyl halide.
P-23-0138 | 09/02/2025 | IGM Resins Charlotte, Inc | (S) Photo initiator: Amine Synergists or Amine Acrylates like OPV and industrial coatings (pigmented systems like offset, flexo and inkjets | (S) Benzoic acid, 2-([1,1′-biphenyl]-4-ylcarbonyl)-, 2-ethylhexyl ester.
P-23-0162 | 09/24/2025 | CBI | (S) Transportation fuels, Chemical Feedstock, Fuel additive | (G) Alkane (glyceridic), hydrotreated and isomerized.
P-24-0093 | 09/03/2025 | Evonik Corporation | (S) Surfactant in laundry detergent, hard surface cleaner, manual/hand dish detergent | (G) Rhamnolipids, modified pseudomonas-fermented, from dextrose, salts.
P-24-0094 | 09/03/2025 | Evonik Corporation | (S) Surfactant in laundry detergent, hard surface cleaner, manual/hand dish detergent | (G) Rhamnolipids, modified pseudomonas-fermented, from dextrose, salts.
P-24-0095 | 09/03/2025 | Evonik Corporation | (S) Surfactant in laundry detergent, hard surface cleaner, manual/hand dish detergent | (G) Rhamnolipids, modified pseudomonas-fermented, from dextrose, salts.
P-24-0096 | 09/03/2025 | Evonik Corporation | (S) Surfactant in laundry detergent, hard surface cleaner, manual/hand dish detergent | (G) Rhamnolipids, modified pseudomonas-fermented, from dextrose, salts.
P-24-0144 | 09/11/2025 | CBI | (G) Industrial Raw Material | (G) Unsaturated carboxylic acid copolymer with 2-Methyl substituted poly (ethylene glycol) diol.
P-24-0144 | 09/24/2025 | CBI | (G) Industrial Raw Material | (G) Unsaturated carboxylic acid copolymer with 2-Methyl substituted poly (ethylene glycol) diol.
P-25-0023 | 09/18/2025 | CBI | (G) Mixed metal oxide for batteries | (G) Cobalt lithium manganese nickel oxide, metals-modified.
P-25-0039 | 09/03/2025 | CBI | (G) Component in marine coatings | (G) Polysiloxane modified polyacrylic metal carboxylate complex.
P-25-0073 | 09/04/2025 | CBI | (G) Substance for the use in manufacturing of battery components. | (G) Cobalt lithium manganese nickel oxide, metals.
P-25-0093 | 09/22/2025 | CBI | (G) Battery Component | (G) Mixed Metal Oxide.
P-25-0094 | 09/22/2025 | CBI | (G) Battery Component | (G) Mixed Metal Oxide.
P-25-0095 | 09/22/2025 | CBI | (G) Battery Component | (G) Mixed Metal Oxide.
P-25-0096 | 09/22/2025 | CBI | (G) Battery Component | (G) Mixed Metal Oxide.
P-25-0118 | 09/09/2025 | CBI | (G) Liquid and solid formulation of biocatalyst used in a variety of products | (G) Neutral Protease.
P-25-0123 | 09/03/2025 | CBI | (G) Ink component, Ingredient in ink | (G) Butanamide, 2,2′-[(dihalo[1,1′-biphenyl]-4,4′-diyl) bis(2,1-diazenediyl)] bis [3-oxo, N,N′-bis(substituted heteropolycyclic and alkyl carbomonocyclic) derivs.
P-25-0129 | 09/19/2025 | Hawkins, Inc | (S) Correction of iron deficiency in alkaline soils when EDTA-Fe is not stable. Product is intended as a fertilizer micronutrient | (S) Ferrate (3-), [[a, a′-[1,2-ethanediyldi(imino-kN)] bis[2-(hydroxy-kO)-5-sulfobenzeneacetato-kO]] (6-)]-, sodium (1:3).
P-25-0143 | 09/05/2025 | DAY-GLO Color Corp | (S) Polymer | (G) Zinc, cycloaliphatic diamine-isophthalic acid-2-methyl-1,3-propanediol polymer-phthalic anhydride reaction products complexes.
P-25-0143 | 09/16/2025 | DAY-GLO Color Corp | (S) Polymer functions as a carrier for dyes and pigments. It is subsequently compounded with other polymers to impart color in finished products. End-use applications can include toys, apparel, footwear, and packaging materials | (G) Zinc, cycloaliphatic diamine-isophthalic acid-2-methyl-1,3-propanediol polymer-phthalic anhydride reaction products complexes.
P-25-0144 | 08/28/2025 | CBI | (G) Substance for the use in manufacturing of battery components | (G) Cobalt lithium manganese nickel oxide, metals.
P-25-0145 | 08/28/2025 | CBI | (G) Substance for the use in manufacturing of battery components | (G) Cobalt lithium manganese nickel oxide, metals.
P-25-0146 | 08/28/2025 | CBI | (G) Substance for the use in manufacturing of battery components | (G) Cobalt lithium manganese nickel oxide, metals.
P-25-0147 | 08/29/2025 | UBE C1 Chemicals America, Inc | (G) Catalyst support | (S) Aluminum lithium oxide.
P-25-0148 | 09/25/2025 | J6 Polymers | (S) Primary polyol for the B-side component of spray foam polyurethane systems | (S) Soybean oil, polymer with diethylene glycol, glycerol, phthalic anhydride, terephthalic acid and triethylene glycol.
P-25-0149 | 09/05/2025 | MGC Pure Chemicals America, Inc | (S) Chelating agent for use in semiconductor manufacture | (G) Phosphonic acid, [(alkyl-alkanediyl) bis[nitrilobis(alkylene)]].
P-25-0150 | 09/06/2025 | SIKA Corporation | (S) Reactive polymer for use in adhesive applications | (G) 1,3-Benzenedicarboxylic acid, polymer with 1,4-benzenedicarboxylic acid, substituted-alkanediol, alkanediol, and alkanediol, alkanoic acid and arylcarboxylic acid anhydride, bis[N-[4-[(4-isocyanatophenyl) methyl] phenyl] carbamate].
P-25-0150 | 09/15/2025 | SIKA Corporation | (S) Reactive polymer for use in adhesive applications | (G) 1,3-Benzenedicarboxylic acid, polymer with 1,4-benzenedicarboxylic acid, substituted-alkanediol, alkanediol, and alkanediol, alkanoic acid and arylcarboxylic acid anhydride, bis[N-[4-[(4-isocyanatophenyl) methyl] phenyl] carbamate].
P-25-0151 | 09/13/2025 | CBI | (G) Substance for the use in manufacturing of battery components | (G) Cobalt lithium manganese nickel oxide, metals.
P-25-0152 | 09/13/2025 | CBI | (G) Substance for the use in manufacturing of battery components | (G) Cobalt lithium manganese nickel oxide, metals.
P-25-0153 | 09/19/2025 | Schimmer & Schwarz | (S) ATIEL-ATC Group B [i] General industrial use of lubricants and greases in vehicles or machinery. Includes filling and draining of containers and enclosed machinery (including engines); ATIEL-ATC Group F [i] Industrial Use of lubricants in high energy open processes. Including high speed machinery such as metal rolling/forming or metalworking fluids for machining and grinding; ATIEL-ATC Group E [i] Industrial Handling and dilution of metalworking fluid concentrates | (G) Mixture of Fatty acids esters with isomerized alkane derivs.
P-25-0154 | 09/19/2025 | Schimmer & Schwarz | (S) ATIEL-ATC Group B [i] General industrial use of lubricants and greases in vehicles or machinery. Includes filling and draining of containers and enclosed machinery (including engines); ATIEL-ATC Group F [i] Industrial Use of lubricants in high energy open processes. Including high speed machinery such as metal rolling/forming or metalworking fluids for machining and grinding; ATIEL-ATC Group E [i] Industrial Handling and dilution of metalworking fluid concentrates | (G) Mixture of fatty acids esters with isomerized alkane derivs.
P-25-0155 | 09/19/2025 | Schimmer & Schwarz | (S) ATIEL-ATC Group B [i] General industrial use of lubricants and greases in vehicles or machinery. Includes filling and draining of containers and enclosed machinery (including engines); ATIEL-ATC Group F [i] Industrial Use of lubricants in high energy open processes. Including high speed machinery such as metal rolling/forming or metalworking fluids for machining and grinding; ATIEL-ATC Group E [i] Industrial Handling and dilution of metalworking fluid concentrates | (G) Mixture of Fatty acids esters with isomerized alkane derivs.
P-25-0156 | 09/16/2025 | CBI | (G) Adhesive hardener, Microcapsule | (G) Alkyl alkanol, reaction products with 1,5-diisocyanatopentane.
P-25-0158 | 09/25/2025 | BEDOUKIAN RESEARCH, INC | (S) Site-limited intermediate | (G) Triarylalkylphosphonium halide salt.
P-25-0160 | 09/29/2025 | CBI | (G) Photolithography | (G) Sulfonium, tricarbocyclic-, heteroatom-substituted-carbomonocyclecarbonate (1:1).
P-25-0161 | 09/29/2025 | CBI | (G) Photolithography | (G) Sulfonium, tricarbocyclic-, 2-(4-heteroatom-substituted-halocarbomonocyclic)-alpha, alpha, beta, beta-polyfluoropolyhydro-4,7-methano-1,3-heteropolycyclic-5-alkanesulfonate (1:1).
P-25-0162 | 09/29/2025 | CBI | (G) Photolithography | (G) Sulfonium, tricarbocyclic-, perfluoroalkyl-substituted and heteroatom-substituted-carbomonocyclecarbonate (1:1).
P-25-0163 | 09/29/2025 | CBI | (G) Photolithography | (G) Sulfonium, tricarbocyclic-, 5-[polyhydro-2-alkyl-5-(1,1,2,2-polyfluoro-2-sulfoalkyl)-4,7-methano-1,3-heteropolycyclic-2-yl]-2-heteroatom-substituted-carbomonocyclic acid (1:1).
SN-25-0010 | 09/08/2025 | Solstice Advanced Materials US, Inc | (S) MVAC: Passenger Air Conditioning in light duty vehicles that were previously using R-134a as their refrigerant: 1. light-duty vehicles (e.g., passenger cars), 2. light-duty trucks (e.g., minivans, full size pick-up trucks, and full-size SUVs) 3. medium-duty passenger vehicles, heavy-duty pickup trucks, complete heavy-duty vans | (S) 1-Propene, 2,3,3,3-tetrafluoro-.

Table 2 provides non-CBI information on the NOCs received by EPA that have passed an initial screening during this period.

Table 2—NOCs Received and Under Review
Case No. | Received date | Commencement date | Chemical substance
P-22-0035 | 09/16/2025 | 09/11/2025 | (G) Alkenoic acid, alkanediyl ester, polymer with bis (substituted alkyl)-alkanediol polymer with alkylene oxides alkenoate, and alkanamine.
P-22-0114 | 08/29/2025 | 08/27/2025 | (S) Edge-oxidized graphene.
P-23-0087 | 09/03/2025 | 08/21/2025 | (S) Oxirane, 2-methyl-, polymer with 2-[[3-(triethoxysilyl) propoxy] methyl] oxirane, monoether with -butyl-hydroxypoly[oxy(methyl-1,2-ethanediyl)].
P-23-0169 | 09/05/2025 | 09/03/2025 | (G) Alkane, bis(chlorosilane),.
P-25-0097 | 09/18/2025 | 09/15/2025 | (G) Aromatic sulfonium tricyclo salt with dicycloalkyl carbomonocycle hetero acid.

Table 3 provides non-CBI information on the test information that has been received by EPA that have passed an initial screening during this period.

Table 3—Test Information Received
Case No. | Received date | Type of test information | Chemical substance
P-19-0166 | 09/23/2025 | Photo transformation of Chemicals in Water—Direct Photolysis (OECD Test Guideline 316); Partition Coefficient (1-Octanol/Water): Slow-Stirring Method (OECD Test Guideline 123) | (G) Triaryl sulfonium, multicycloalkylalkoxycarbonyloxymonofluoroalkylsulfonate.
P-22-0042 | 09/18/2025 | Combined Repeated Does Toxicity Study with the Reproduction/Developmental Toxicity Screening Test (OECD Test Guideline 422) | (G) Alkanediones, [[[(substituted)aryl] thio] aryl]-, 2-(O-acetyloxime).
P-23-0093, P-24-0190, P-24-0160 | 09/29/2025 | Notice of Study Scheduling | (G) Aromatic Dibenz thiophenium fluoroalkyl carbopolycycle sulfonic acid salt; (G) Aromatic sulfonium tricyclo salt with alkyl carbomonocycle hetero-acid; (G) Iodonium, bis (dialkyl carbomonocycle) salt with alkyl carbomonocycle hetero-acid,.
P-23-0037, P-23-0080, P-23-0044 | 09/29/2025 | Notice of Study Scheduling | (G) Monoaromatic cyclic alkylene sulfonium fluoroalkyl sulfonic acid salt; (G) Aromatic sulfonium tricyclo fluoroalkyl sulfonic acid salt; (G) Monoaromatic cyclic alkylene sulfonium fluoroalkyl sulfonic acid salt.
P-25-0016, P-22-0055, P-20-0042 | 09/11/2025 | Notice of Study Scheduling | (G) Tri haloaromatic iodonium dicyclo salt with polyhaloalkyl carbomonocycle hetero-acid; (G) Aromatic sulfonium tricyclo fluoroalkyl sulfonic acid salt; (G) Sulfonium, trisaryl-, 7,7-dialkyl-2-heteropolycyclic -1-alkanesulfonate (1:1).
P-23-0093, P-24-0190, P-23-0160 | 09/11/2025 | Notice of Study Scheduling | (G) Aromatic Dibenz thiophenium fluoroalkyl carbopolycycle sulfonic acid salt; (G) Aromatic sulfonium tricyclo salt with alkyl carbomonocycle hetero-acid; (G) Iodonium, bis (dialkyl carbomonocycle) salt with alkyl carbomonocycle hetero-acid,.
P-23-0037, P-23-0080, P-23-0044 | 09/11/2025 | Notice of Study Scheduling | (G) Monoaromatic cyclic alkylene sulfonium fluoroalkyl sulfonic acid salt; (G) Aromatic sulfonium tricyclo fluoroalkyl sulfonic acid salt; (G) Monoaromatic cyclic alkylene sulfonium fluoroalkyl sulfonic acid salt.
P-18-0016 | 09/11/2025 | Notice of Study Scheduling | (G) Aromatic sulfonium tricyclo fluoroalkyl sulfonic acid salt.
P-22-0014 | 09/04/2025 | Clarification Request Regarding MOE and POD Used in PMN Risk Assessment Referencing Read-Across Substance TCEP (CASRN 115-96-8) | (G) Sodium bis(chloropropanediol) phosphate.

IV. Status Reports

Information about the TSCA section 5 PMNs, SNUNs, MCANs, and exemption applications received, including the date of receipt, the status of EPA's review, the final EPA determination, and the effective date of EPA's determination, is available online at: https://www.epa.gov/reviewing-new-chemicals-under-toxic-substances-control-act-tsca/status-pre-manufacture-notices.

Authority: 15 U.S.C. 2601 et seq.

Dated: November 25, 2025.
Mary Elissa Reaves,
Director, Office of Pollution Prevention and Toxics.

[FR Doc. 2025-21673 Filed 11-28-25; 8:45 am]

BILLING CODE 6560-50-P